DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Mingo County, West Virginia
Docket No.: FEMA-B-1208
West Virginia | Unincorporated Areas of Mingo County | Mate Creek | Approximately 0.21 mile downstream of Norfolk & Western Railway (immediately downstream of County Route 9) | +706
* National Geodetic Vertical Datum.
+ North American Vertical Datum.
# Depth in feet above ground.
‸ Mean Sea Level, rounded to the nearest 0.1 meter.
ADDRESSES
Unincorporated Areas of Mingo County
Maps are available for inspection at the Mingo County Floodplain Management Office, 75 East 2nd Avenue, Room 325, Williamson, WV 25661.

Flooding source(s) | Location of referenced elevation | * Elevation in feet (NGVD) + Elevation in feet (NAVD) # Depth in feet above ground ‸ Elevation in meters (MSL) Modified | Communities affected
Chicot County, Arkansas, and Incorporated Areas
Docket No.: FEMA-B-1087
Flooding effects of Caney Bayou | Approximately 0.55 mile north of the intersection of Grant Street and Beouff Street | +110 | City of Eudora.
| Approximately 1,035 feet south of the intersection of Camille Street and Lee Street | +110
Macon Bayou | Just upstream of Private Road | +108 | City of Eudora.
| Just upstream of Verser Road | +108
* National Geodetic Vertical Datum.
+ North American Vertical Datum.
# Depth in feet above ground.
‸ Mean Sea Level, rounded to the nearest 0.1 meter.
ADDRESSES
City of Eudora
Maps are available for inspection at City Hall, 239 South Main Street, Eudora, AR 71640.
Logan County, Kentucky, and Incorporated Areas
Docket No.: FEMA-B-1117
Proctor Branch | Approximately 400 feet upstream of Bismarck Lane | +525 | City of Russellville, Unincorporated Areas of Logan County.
| Approximately 0.3 mile upstream of the confluence with Proctor Branch Tributary A | +599
Proctor Branch Tributary A | Just upstream of the confluence with Proctor Branch | +585 | City of Russellville.
| Approximately 1,100 feet upstream of the confluence with Proctor Branch | +601
Proctor Branch Tributary B | At the confluence with Proctor Branch | +579 | City of Russellville, Unincorporated Areas of Logan County.
| Approximately 200 feet downstream of Hi-View Drive | +592
Town Branch | Approximately 800 feet downstream of Concord Road | +517 | City of Russellville, Unincorporated Areas of Logan County.
| Just downstream of Newton Road | +563
| Just upstream of West 9th Street (U.S. Route 431) | +621
| Approximately 1,900 feet upstream of West 9th Street (U.S. Route 431) | +623
Town Branch Tributary D | Approximately 350 feet upstream of the confluence with Town Branch Tributary E | +607 | Unincorporated Areas of Logan County.
| Approximately 700 feet upstream of Warren Road | +643
* National Geodetic Vertical Datum.
+ North American Vertical Datum.
# Depth in feet above ground.
‸ Mean Sea Level, rounded to the nearest 0.1 meter.
ADDRESSES
City of Russellville
Maps are available for inspection at 168 South Main Street, Russellville, KY 42276.
Unincorporated Areas of Logan County
Maps are available for inspection at 299 West 3rd Street, Russellville, KY 42276.
Madison County, Kentucky, and Incorporated Areas
Docket No.: FEMA-B-1101
Brushy Fork | At the confluence with Silver Creek | +922 | City of Berea, Unincorporated Areas of Madison County.
| Approximately 305 feet upstream of Mt. Vernon Road | +976
Calloway Creek (backwater effects from Kentucky River) | From the confluence with the Kentucky River to approximately 3,680 feet upstream of the confluence with the Kentucky River | +590 | Unincorporated Areas of Madison County.
Clear Creek 1 (backwater effects from Kentucky River) | From the confluence with Muddy Creek to approximately 635 feet upstream of Doylesville Road | +600 | Unincorporated Areas of Madison County.
Dreaming Creek Tributary | At the confluence with Dreaming Creek | +837 | City of Richmond, Unincorporated Areas of Madison County.
| Approximately 0.7 mile upstream of Old Wilderness Trail | +917
Drowning Creek (backwater effects from Kentucky River) | From the confluence with the Kentucky River to approximately 845 feet upstream of the confluence with Drowning Creek Tributary 3 | +620 | Unincorporated Areas of Madison County.
Drowning Creek Tributary 3 (backwater effects from Kentucky River) | From the confluence with Drowning Creek to approximately 1,245 feet upstream of the confluence with Drowning Creek | +620 | Unincorporated Areas of Madison County.
East Fork Silver Creek (backwater effects from Silver Creek) | From the confluence with Silver Creek to approximately 80 feet upstream of Gabbard Town Road | +843 | City of Berea, Unincorporated Areas of Madison County.
Falling Branch (backwater effects from Kentucky River) | From the confluence with the Kentucky River to approximately 0.5 mile upstream of the confluence with the Kentucky River | +619 | Unincorporated Areas of Madison County.
Flint Creek (backwater effects from Kentucky River) | From the confluence with the Kentucky River to approximately 0.5 mile upstream of the confluence with the Kentucky River | +615 | Unincorporated Areas of Madison County.
Hines Creek (backwater effects from Kentucky River) | From the confluence with the Kentucky River to approximately 2,284 feet upstream of the confluence with the Kentucky River | +586 | Unincorporated Areas of Madison County.
Jacks Creek (backwater effects from Kentucky River) | From the confluence with the Kentucky River to approximately 2,120 feet upstream of the confluence with the Kentucky River | +585 | Unincorporated Areas of Madison County.
Kentucky River | At the confluence with Paint Lick Creek | +573 | Unincorporated Areas of Madison County.
| At the confluence with Drowning Creek | +620
Kentucky River Tributary 3 (backwater effects from Kentucky River) | From the confluence with the Kentucky River to approximately 0.8 mile upstream of the confluence with the Kentucky River | +618 | Unincorporated Areas of Madison County.
Muddy Creek (backwater effects from Kentucky River) | From the confluence with the Kentucky River to approximately 0.6 mile upstream of Doylesville Road | +600 | Unincorporated Areas of Madison County.
Old Town Branch (backwater effects from Taylor Fork) | From the confluence with Taylor Fork to approximately 1,950 feet upstream of the confluence with Taylor Fork | +829 | Unincorporated Areas of Madison County.
Otter Creek | Approximately 0.7 mile downstream of Four Mile Road | +800 | City of Richmond, Unincorporated Areas of Madison County.
| Just upstream of Catalpa Loop | +843
Otter Creek (backwater effects from Kentucky River) | From the confluence with the Kentucky River to approximately 680 feet upstream of Boonesborough Road | +594 | Unincorporated Areas of Madison County.
Otter Creek Tributary 1 | At the confluence with Otter Creek | +843 | City of Richmond, Unincorporated Areas of Madison County.
| Just downstream of Big Hill Avenue | +890
Otter Creek Tributary 2 | At the confluence with Otter Creek | +814 | City of Richmond, Unincorporated Areas of Madison County.
| Approximately 755 feet upstream of Douglas Court | +895
Paint Lick Creek (backwater effects from Kentucky River) | From the confluence with the Kentucky River to approximately 1,135 feet downstream of the confluence with Sledd Branch | +573 | Unincorporated Areas of Madison County.
Rocky Lick Branch (backwater effects from Kentucky River) | From the confluence with Muddy Creek to approximately 430 feet downstream of Walker Parke Road | +600 | Unincorporated Areas of Madison County.
Silver Creek | Just downstream of Richmond Road North | +904 | City of Berea, Unincorporated Areas of Madison County.
| Approximately 525 feet upstream of KY-21 | +944
Silver Creek (backwater effects from Kentucky River) | From the confluence with the Kentucky River to approximately 813 feet upstream of the confluence with Jackson Branch | +576 | Unincorporated Areas of Madison County.
Stony Fork (backwater effects from Kentucky River) | From the confluence with the Kentucky River to approximately 858 feet upstream of Whitlock Road | +577 | Unincorporated Areas of Madison County.
Tate Creek (backwater effects from Kentucky River) | From the confluence with the Kentucky River to just upstream of Tates Creek Road | +583 | City of Richmond, Unincorporated Areas of Madison County.
Taylor Fork | Approximately 0.5 mile upstream of Curtis Pike | +829 | City of Richmond, Unincorporated Areas of Madison County.
| Approximately 0.7 mile upstream of the confluence with Taylor Fork Tributary 1 | +970
Taylor Fork Tributary 1 | At the confluence with Taylor Fork | +930 | City of Richmond, Unincorporated Areas of Madison County.
| Approximately 0.5 mile upstream of the confluence with Taylor Fork | +978
Taylor Fork Tributary 2 | At the confluence with Taylor Fork | +884 | City of Richmond, Unincorporated Areas of Madison County.
| Approximately 100 feet downstream of Vickers Drive | +958
Taylor Fork Tributary 2A | At the confluence with Taylor Fork Tributary 2 | +897 | City of Richmond, Unincorporated Areas of Madison County.
| Approximately 1,775 feet upstream of the confluence with Taylor Fork Tributary 2 | +929
Taylor Fork Tributary 3 | At the confluence with Taylor Fork | +878 | City of Richmond, Unincorporated Areas of Madison County.
| Approximately 0.5 mile upstream of the confluence with Taylor Fork | +931
Taylor Fork Tributary 4 | At the confluence with Taylor Fork | +874 | City of Richmond, Unincorporated Areas of Madison County.
| Approximately 0.4 mile upstream of the confluence with Taylor Fork | +928
Taylor Fork Tributary 5 | At the confluence with Taylor Fork | +865 | City of Richmond, Unincorporated Areas of Madison County.
| Approximately 200 feet upstream of Alycia Drive | +916
Taylor Fork Tributary 6 | At the confluence with Taylor Fork | +834 | City of Richmond, Unincorporated Areas of Madison County.
| Approximately 850 feet upstream of Idylwild Court | +944
Taylor Fork Tributary 7 | At the confluence with Taylor Fork | +829 | City of Richmond, Unincorporated Areas of Madison County.
| Approximately 1,855 feet upstream of the confluence with Taylor Fork | +843
Terrill Branch (backwater effects from Silver Creek) | From the confluence with Silver Creek to approximately 0.4 mile upstream of the confluence with Silver Creek | +911 | City of Berea, Unincorporated Areas of Madison County.
Upper Tate Creek | Approximately 310 feet downstream of Finney Fork Road | +784 | City of Richmond, Unincorporated Areas of Madison County.
| Approximately 945 feet upstream of Stocker Drive | +928
Walnut Meadow Branch | Approximately 460 feet downstream of Guynn Road | +893 | City of Berea, Unincorporated Areas of Madison County.
| Approximately 640 feet upstream of Ginger Drive | +935
* National Geodetic Vertical Datum.
+ North American Vertical Datum.
# Depth in feet above ground.
‸ Mean Sea Level, rounded to the nearest 0.1 meter.
ADDRESSES
City of Berea
Maps are available for inspection at 212 Chestnut Street, Berea, KY 40403.
City of Richmond
Maps are available for inspection at 239 West Main Street, Richmond, KY 40475.
Unincorporated Areas of Madison County
Maps are available for inspection at 101 West Main Street, Richmond, KY 40475.
Carroll County, Missouri, and Incorporated Areas
Docket No.: FEMA-B-1169
Big Creek (backwater effects from Missouri River) | From the Grand River confluence to approximately 2.7 miles upstream of County Road 335 | +649 | Unincorporated Areas of Carroll County.
Grand River (backwater effects from Missouri River) | From the Missouri River confluence to the upstream side of the railroad | +649 | Unincorporated Areas of Carroll County.
Missouri River | At the Grand River confluence | +645 | City of Dewitt, City of Norborne, Town of Carrollton, Unincorporated Areas of Carroll County.
| At the Ray County boundary | +689
* National Geodetic Vertical Datum.
+ North American Vertical Datum.
# Depth in feet above ground.
‸ Mean Sea Level, rounded to the nearest 0.1 meter.
ADDRESSES
City of Dewitt
Maps are available for inspection at the Carroll County Courthouse, 8 South Main Street, Suite 6, Carrollton, MO 64633.
City of Norborne
Maps are available for inspection at City Hall, 109 East 2nd Street, Norborne, MO 64668.
Town of Carrollton
Maps are available for inspection at City Hall, 206 West Washington Avenue, Carrollton, MO 64633.
Unincorporated Areas of Carroll County
Maps are available for inspection at the Carroll County Courthouse, 8 South Main Street, Suite 6, Carrollton, MO 64633.
Juniata County, Pennsylvania (All Jurisdictions)
Docket No.: FEMA-B-1207
Susquehanna River | At the downstream Northumberland County boundary | +403 | Township of Susquehanna.
| At the West Mahantango Creek confluence | +405
Tuscarora Creek | Approximately 0.9 mile upstream of Groninger Valley Road | +445 | Township of Spruce Hill.
| Approximately 3.1 miles upstream of Groninger Valley Road | +461
West Mahantango Creek | At the Susquehanna River confluence | +405 | Township of Susquehanna.
| Approximately 60 feet downstream of Old Trail Road | +407
* National Geodetic Vertical Datum.
+ North American Vertical Datum.
# Depth in feet above ground.
‸ Mean Sea Level, rounded to the nearest 0.1 meter.
ADDRESSES
Township of Spruce Hill
Maps are available for inspection at the Spruce Hill Township Secretary's Office, 727 Half Moon Road, Port Royal, PA 17082.
Township of Susquehanna
Maps are available for inspection at the Susquehanna Township Hall, 358 Fairground Road, Liverpool, PA 17045.
Harrison County, West Virginia, and Incorporated Areas
Docket No.: FEMA-B-1210
Bingamon Creek (backwater effects from West Fork River) | At the West Fork River confluence | +902 | Unincorporated Areas of Harrison County.
| Approximately 1.53 miles upstream of the West Fork River confluence | +902
Booths Creek | At the Marion County boundary | +959 | Unincorporated Areas of Harrison County.
| At the Thomas Fork confluence | +1000
Tenmile Creek (backwater effects from West Fork River) | At the West Fork River confluence | +921 | Town of Lumberport.
| Approximately 1.45 miles upstream of West Fork River confluence | +921
Thomas Fork | At the Booths Creek confluence | +1000 | City of Bridgeport, Unincorporated Areas of Harrison County.
| Approximately 420 feet downstream of Benedum Road | +1060
West Fork River | At the upstream side of State Route 20 | +921 | Town of Lumberport.
| At the Tenmile Creek confluence | +921
West Fork River | Approximately 0.45 mile downstream of Water Street | +972 | Town of West Milford.
| Approximately 0.47 mile upstream of West Milford Dam | +975
* National Geodetic Vertical Datum.
+ North American Vertical Datum.
# Depth in feet above ground.
‸ Mean Sea Level, rounded to the nearest 0.1 meter.
ADDRESSES
City of Bridgeport
Maps are available for inspection at City Hall, 515 West Main Street, Bridgeport, WV 26330.
Town of Lumberport
Maps are available for inspection at the Town Hall, 200 Main Street, Lumberport, WV 26386.
Town of West Milford
Maps are available for inspection at the Town Hall, 925 Liberty Street, West Milford, WV 26451.
Unincorporated Areas of Harrison County
Maps are available for inspection at the Harrison County Courthouse, 301 West Main Street, Clarksburg, WV 26301.

(Catalog of Federal Domestic Assistance No. 97.022, “Flood Insurance.”)

Dated: August 1, 2012.
Sandra K. Knight,
Deputy Associate Administrator for Mitigation, Department of Homeland Security, Federal Emergency Management Agency.

[FR Doc. 2012-20136 Filed 8-15-12; 8:45 am]

BILLING CODE 9110-12-P